DEPARTMENT OF THE INTERIOR

National Park System Advisory Board; Meeting

AGENCY: National Park Service, Interior.

ACTION: Notice of meeting.

SUMMARY: Notice is hereby given in accordance with the Federal Advisory Committee Act, 5 U.S.C. Appendix, and Parts 62 and 65 of title 36 of the Code of Federal Regulations, that the National Park System Advisory Board will meet December 2-3, 2008, in Corpus Christi, TX. The agenda will include the review of proposed actions regarding the National Historic Landmarks Program and the National Natural Landmarks Program. Interested parties are encouraged to submit written comments and recommendations that will be presented to the board. Interested parties also may attend the board meeting and upon request may address the board concerning an area's national significance.

DATES: (a) Written comments regarding any proposed National Historic Landmarks matter or National Natural Landmarks matter listed in this notice will be accepted by the National Park Service until November 21, 2008. (b) The Board will meet on December 2-3, 2008.

Location: The meeting will be held in the meeting room at the Comfort Suites North Padre Island, 15209 Windward Drive, Corpus Christi, TX 78418, telephone 361-949-1112.

FOR FURTHER INFORMATION CONTACT: (a) For information concerning the National Park System Advisory Board or to request to address the Board, contact Shirley Sears Smith, Office of Policy, National Park Service, 1849 C Street, NW., Room 2228, Washington, DC 20240; telephone 202-208-7160, e-mail Shirley_S_Smith@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street, NW. (2280), Washington, DC 20240; e-mail Paul_Loether@nps.gov. (c) To submit a written statement specific to, or request information about, any National Natural Landmarks matter listed below, or for information about the National Natural Landmarks Program or National Natural Landmarks designation process and the effects of designation, contact Dr. Margaret Brooks, Program Manager, National Natural Landmarks Program, National Park Service, 225 N. Commerce Park Loop, Tucson, Arizona 85745, e-mail Margi_Brooks@nps.gov.

SUPPLEMENTARY INFORMATION: The Board will convene its business meeting at 8:30 a.m. on December 2 and adjourn at 5 p.m. On December 3, the Board will tour Padre Island National Seashore. During the course of the two days, the Board will be addressed by National Park Service Director Mary Bomar, and will be briefed by other National Park Service officials regarding environmental, education, and partnership programs. The Board will receive status reports on matters pending before the Board and will consider proposed actions concerning the National Historic Landmarks Program and the National Natural Landmarks Program. Other officials of the Department of the Interior and the National Park Service may address the Board, and other miscellaneous topics and reports may be covered.

A. NHL Nominations

National Historic Landmarks (NHL) Program matters will be considered during the morning session of the business meeting, during which the Board may consider the following:

Arizona

• Sage Memorial Hospital School of Nursing, Ganado Mission, Ganado, AZ.

California

• Steedman Estate/Casa del Herrero, Santa Barbara County, CA.

Colorado

• Ludlow Tent Colony Site, Las Animas County, CO.

Connecticut

• Richard Alsop IV House, Middletown, CT.

Florida

• The Miami Circle at Brickell Point Site, Miami, FL.

Illinois

• New Philadelphia Town Site, Pike County, IL.

Minnesota

• Christ Church Lutheran, Minneapolis, MN.

Pennsylvania

• Alfred Newton Richards Medical Research Laboratories and David Goddard Laboratories Buildings, Philadelphia, PA.

Wisconsin

• Aldo Leopold Shack and Farm, Fairfield & Lewiston Townships, WI.

The Board also may consider a proposal to withdraw NHL designation for the Florence Mills House, New York City, NY.

B. NNL Nominations

National Natural Landmarks (NNL) Program matters will be considered during the morning session of the business meeting, during which the Board may consider the following:

Kentucky

• Big Bone Lick, Boone County, KY.

New York and Vermont

• Chazy Fossil Reef, Grand Isle County, VT, and Clinton County, NY.

Pennsylvania

• Nottingham Park Serpentine Barrens, Chester County, PA.

Texas

• Cave Without a Name, Kendall County, TX.

The Board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time.

Draft minutes of the meeting will be available for public inspection about 12 weeks after the meeting, in room 7252, Main Interior Building, 1849 C Street, NW., Washington, DC.

Dated: September 12, 2008.
Bernard Fagan,
Chief, Office of Policy.

[FR Doc. E8-22049 Filed 9-19-08; 8:45 am]

BILLING CODE 4310-EE-P